ENVIRONMENTAL PROTECTION AGENCY

40 CFR Part 52

[SIP NO. SD-001-0016b; FRL-7606-7]

Approval and Promulgation of Air Quality Implementation Plans; State of South Dakota; Regulations for State Facilities in Rapid City

AGENCY: Environmental Protection Agency (EPA).

ACTION: Proposed rule.

SUMMARY: EPA is proposing to approve State Implementation Plan (SIP) revisions submitted by the State of South Dakota on June 27, 2002. The June 27, 2002, submittal consists a revision to the administrative rules of South Dakota. These revisions add a new chapter to regulate fugitive emissions of particulate matter from State facilities and State contractors that conduct a construction activity or continuous operation activity in the Rapid City air quality control zone. The intended effect of this action is to make the revisions to the administrative rules of South Dakota federally enforceable. In the “rules and regulations” section of this Federal Register, EPA is approving the State's SIP revisions as a direct final rule without prior proposal because the Agency views these as noncontroversial SIP revisions and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

DATES: Written comments must be received on or before February 19, 2004.

ADDRESSES: Written comments may be mailed to Richard R. Long, Director, Air and Radiation Program, Mailcode 8P-AR, Environmental Protection Agency, Region 8, 999 18th Street, Suite 300, Denver, Colorado 80202-2466. Comments may also be submitted electronically, or through hand delivery/courier. Please follow the detailed instructions (part (I)(B)(1)(i) through (iii) of the SUPPLEMENTARY INFORMATION section) described in the direct final rule which is located in the rules section of this Federal Register. Copies of the documents relevant to this action are available for public inspection Monday through Friday, 8 a.m. to 4 p.m., excluding Federal holidays, at the Air and Radiation Program, Environmental Protection Agency, Region 8, 999 18th Street, Suite 300, Denver, Colorado 80202-2466. Copies of the State documents relevant to this action are available for public inspection at the South Dakota Department of Environmental and Natural Resources, Air Quality Program, Joe Foss Building, 523 East Capitol, Pierre, South Dakota 57501.

FOR FURTHER INFORMATION CONTACT: Laurel Dygowski, EPA, Region 8, 999 18th Street, Suite 300, Mailcode 8P-AR, Denver, Colorado 80202, (303) 312-6144, e-mail dygowski.laurel@epa.gov.

SUPPLEMENTARY INFORMATION: See the information provided in the direct final action of the same title which is located in the rules and regulations section of this Federal Register.

Authority: 42 U.S.C. 7401 et seq.

Dated: December 19, 2003.
Kerrigan G. Clough,
Acting Regional Administrator, Region 8.

[FR Doc. 04-1036 Filed 1-16-04; 8:45 am]

BILLING CODE 6560-50-P